FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicant

Intercontinental Logistics, Inc., 500 E. Carson Plaza Drive, Suite 107, Carson, CA 90745, Officer: Ki Chul Kim, President, (Qualifying Individual).

Ocean Freight Forwarder—Ocean Transportation Intermediary Applicants

La Gaviota Shipping, 468 Roseville Avenue, Newark, NJ 07107, Manuel S. Alvarez, Sole Proprietor.

IGX International, Inc., Acuarela St., #3A, Martinez Nadal Highway, Guaynabo, PR 00966, Officers: Lemuel Toledo Gonzalez, President, (Qualifying Individual), Providencia Gonzalez, Vice President.

Dated: October 21, 2005.
Karen V. Gregory,
Assistant Secretary.

[FR Doc. 05-21379 Filed 10-25-05; 8:45 am]

BILLING CODE 6730-01-P